SELECTIVE SERVICE SYSTEM

Privacy Act of 1974; System of Records

AGENCY: Selective Service System (SSS).

ACTION: Notice of modified system of records.

SUMMARY: The purpose of this notice is to meet the requirement of the Privacy Act of 1974, as amended, and OMB Circular No. A-108 to provide notice that the SSS is modifying three systems of records: (1) Registration, Compliance and Verification (RCV) provides a central repository for all data related to active registrants and potential violators; (2) Enterprise Content Management (ECM) manage the document workflow and processing automation of the Data Management Center (DMC); and (3) Information Management Information System (IMIS) manages the daily operational needs for the agency, i.e., requests for reimbursements, financial records, and personnel data are processed by batch and transaction processing. SSS is adding two routine uses and removing two that are no longer applicable.

DATES: This SORN will become effective upon publication in the Federal Register, except for the routine uses, which will become effective 1 February 2026 [30 DAYS AFTER PUBLICATION IN THE Federal Register], unless they need to be changed as a result of public comment. SSS will publish any changes to the SORN resulting from public comment.

ADDRESSES: Written comments and recommendations should be sent to Alma.Cruz@sss.gov, Ms. Alma Cruz, Senior Agency Official for Privacy, 1501 Wilson Boulevard, Arlington, Virginia 22209-2425.

FOR FURTHER INFORMATION CONTACT: For further inquiries regarding this amendment, you may contact Mr. Jeffrey Steinlage, Acting Chief Information Officer. Email: JSteinlage@sss.gov, 1501 Wilson Boulevard, Arlington, Virginia 22209-2425.

SUPPLEMENTARY INFORMATION: This notice serves to update and amend all three of the SSS' SORNs routine uses. The amended list of routine uses is consistent with OMB Circular No. A-108.

SYSTEM NAME(S) AND NUMBER(S):

(1) Registration, Compliance and Verification (RCV), SSS-19. (2) Integrated Mobilization Information Management System (IMIS) and Reserve and National Guard Personnel Records, SSS-5. (3) Enterprise Content Management System (ECM), SSS-50.

SECURITY CLASSIFICATION:

Unclassified.

SYSTEM LOCATION:

National Headquarters, Selective Service System, 1501 Wilson Boulevard, Arlington, VA 22209-2425.

SYSTEM MANAGER(S):

Director of Selective Service, 1501 Wilson Boulevard, Arlington, VA 22209-2425, Attn: Records Manager.

ROUTINE USES OF RECORDS MAINTAINED IN THE SYSTEM, INCLUDING CATEGORIES OF USERS AND THE PURPOSES OF SUCH USES:

In addition to the disclosures permitted under subsection (b) of the Privacy Act, the SSS may disclose information contained in this System of Records without the consent of the individuals to whom the records pertain if the disclosure is compatible with the purpose for which the record was collected under the following routine uses:

1. To the Department of Justice for the purpose of reviewing and processing suspected violations of the Military Selective Service Act (MSSA), for investigation or reviewing of perjury, and for defense of a civil action arising from administrative processing under such Act.

2. To the Department of State and U.S. Citizenship and Immigration Services for collection and evaluation of data to determine an individual's eligibility for United States citizenship.

3. To the Department of Defense and U.S. Coast Guard to exchange data concerning registration, classification, induction, and examination of registrants and for identification of prospects for recruiting.

4. To the Department of Labor to assist veterans in need of data concerning reemployment rights, and for determination of eligibility for benefits under the Workforce Investment Act.

5. To all Federal Agencies to determine eligibility for employment.

6. To the U.S. Census Bureau for the purposes of planning or carrying out a census or survey or related activity pursuant to the provisions of Title 13.

7. To all U.S. Universities and colleges to determine eligibility for student aid, including grants and loans as required by state and local law.

8. To the Department of Health and Human Services to determine an individual's proper Social Security Account Number and for locating parents pursuant to the Child Support Enforcement Act.

9. To an appropriate Federal, state, local, territorial, tribal, or foreign law enforcement authority for investigation or prosecution where a record indicates a violation or potential violation of law.

10. To the Alternative Service Employers, during conscription, to exchange information with employers regarding a registrant who is a conscientious objector for the purpose of placement and supervision of performance of alternative service in lieu of induction into the military service.

11. To appropriate agencies, entities, and persons when (a) the SSS suspects or has confirmed that there has been a breach of the System of Records. (b) the SSS has determined that as a result of the suspected or confirmed breach there is a risk of harm to an individual(s), the SSS (including its information systems, programs, and operations), the Federal Government, or national security; and (c) the disclosure made to such agencies, entities, and persons is reasonably necessary to assist in connection with the SSS efforts to respond to the suspected or confirmed breach or to prevent, minimize, or remedy such harm.

12. To another Federal agency or Federal entity, when the SSS determines that information from this System of Records is necessary to assist the recipient agency or entity in (a) responding to a suspected or confirmed breach, or (b) preventing, minimizing, or remedying the risk of harm to individuals, the recipient agency or entity (including its information systems, programs, and operations), the Federal Government, or national security, resulting from a suspected or confirmed breach.

13. To the General Public for the purpose of retrieving a copy of their Selective Service Number for various purposes such as applying for employment, security background check, student grants and loans, and citizenship.

HISTORY:

Document Citations: 90 FR 20734; 82 FR 29971; 90 FR 17680; 82 FR 29970.

Alma Cruz,
Senior Agency Official for Privacy, Selective Service System.

[FR Doc. 2025-23111 Filed 12-16-25; 8:45 am]

BILLING CODE 8015-01-P